DEPARTMENT OF TRANSPORTATION

Federal Aviation Administration

14 CFR Part 39

[Docket No. FAA-2012 0040; Directorate Identifier 2011-NM-121-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A300 series airplanes; all Model A300 B4-600, B4-600R, and F4-600R series airplanes, and Model C4-605R Variant F airplanes (collectively called A300-600 series airplanes). This proposed AD was prompted by reports of an inoperative fire shut-off valve (FSOV) as a result of damage due to over-length of the bonding lead. This proposed AD would require a one-time detailed inspection for length of the FSOV bonding leads and for contact or chafing of the wires, and corrective actions, if necessary. We are proposing this AD to detect and correct contact or chafing of wires and bonding leads which, if not detected could be a source of sparks in the wing trailing edge, and could lead to an uncontrolled engine fire.

DATES: We must receive comments on this proposed AD by March 22, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS-EAW (Airworthiness Office), 1 Rond Point Maurice Bellonte, 31707 Blagnac Cedex, France; telephone +33 5 61 93 36 96; fax +33 5 61 93 44 51; email: account.airworth-eas@airbus.com; Internet http://www.airbus.com. You may review copies of the referenced service information at the FAA, Transport Airplane Directorate, 1601 Lind Avenue SW., Renton, Washington. For information on the availability of this material at the FAA, call (425) 227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, Washington 98057-3356; telephone (425) 227-2125; fax (425) 227-1149.

SUPPLEMENTARY INFORMATION:

Comments Invited

We invite you to send any written relevant data, views, or arguments about this proposed AD. Send your comments to an address listed under the ADDRESSES section. Include “Docket No. FAA-2012-0040; Directorate Identifier 2011-NM-121-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA AD 2011-0084, dated May 24, 2011 (referred to after this as “the MCAI”), to correct an unsafe condition for the specified products. The MCAI states:

During a scheduled maintenance check, one operator reported inoperative FSOV [fire shut-off valve]. Investigations showed damage at wire located between engine 2 Hydraulic FSOV and wing rear spar, in the zones 575/675, and at bonding lead, located between wing Rib 7A and Rib 8 below Hydraulic Pressure Lines.

Similar inspections on different aeroplanes have shown that one of the causes of damage, is the contact between bonding lead and the harness, due to over length of the bonding lead.

As the affected wire is not powered during normal operation, no defect had been detected. The defect was detected when a test was performed on the FSOV during maintenance check by the operator.

This condition, in the scope of published FAA SFAR88 and JAA Internal Policy INT/POL/25/12, is considered to be a potential source of sparks in the wing trailing edge area and if not detected, could lead to an uncontrolled engine fire.

For the reasons stated above, this [EASA] AD requires a one-time [detailed] inspection of the wires [for contact or chafing] located between LH/RH engines Hydraulic FSOV and wing rear spar in the zones 575/675, and the bonding lead [for length] that is located between Rib 7A and Rib 8 below Hydraulic Pressure Lines, and corrective actions [repair wires or replace bonding leads] depending on findings.

You may obtain further information by examining the MCAI in the AD docket.

Relevant Service Information

Airbus has issued Mandatory Service Bulletins A300-24-0106 (for Model A300 series airplanes); and A300-24-6108 (for Model A300-600 series airplanes); both including Appendices 01 and 02, both dated July 9, 2010. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

Based on the service information, we estimate that this proposed AD would affect about 125 products of U.S. registry. We also estimate that it would take about 8 work-hours per product to comply with the basic requirements of this proposed AD. The average labor rate is $85 per work-hour. Based on these figures, we estimate the cost of the proposed AD on U.S. operators to be $85,000, or $680 per product.

In addition, we estimate that any necessary follow-on actions would take about 1 work-hour and require parts costing $50, for a cost of $135 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2012-0040; Directorate Identifier 2011-NM-121-AD.

(a) Comments Due Date

We must receive comments by March 22, 2012.

(b) Affected ADs

None.

(c) Applicability

This AD applies to airplanes specified in paragraphs (c)(1), (c)(2) and (c)(3) of this AD; certificated in any category; all certificated models; all serial numbers.

(1) Airbus Model A300 B2-1A, B2-1C, B2K-3C, B2-203, B4-2C, B4-103, and B4-203 airplanes.

(2) Airbus Model A300 B4-601, B4-603, B4-620, B4-622, B4-605R, B4-622R, F4-605R, and F4-622 airplanes.

(3) Airbus Model A300 C4-605R Variant F airplanes.

(d) Subject

Air Transport Association (ATA) of America Code 24: Electrical Power.

(e) Reason

This AD was prompted by reports of an inoperative fire shut-off valve (FSOV) as a result of damage due to over-length of the bonding lead. We are issuing this AD to detect and correct contact or chafing of wires and bonding leads which, if not detected, could be a source of sparks in the wing trailing edge, and could lead to an uncontrolled engine fire.

(f) Compliance

You are responsible for having the actions required by this AD performed within the compliance times specified, unless the actions have already been done.

(g) Inspection of the FSOV Bonding Leads

Within 4,500 flight hours or 30 months after the effective date of this AD, whichever occurs first: Do a one-time detailed inspection for length of the FSOV bonding leads, and for contact or chafing of the wires located on left hand (LH) side and right-hand (RH) side of the wing rear spar, in accordance with Accomplishment Instructions of the Airbus Mandatory Service Bulletin A300-24-0106, dated July 9, 2010 (for Model A300 series airplanes); or Airbus Mandatory Service Bulletin A300-24-6108, dated July 9, 2010 (for Model A300-600 series airplanes).

(h) Corrective Action for FSOV Bonding Leads

If, during the inspection required by paragraph (g) of this AD, the length of the bonding lead(s) is more than 80 mm (3.15 inches), before further flight, replace the bonding lead(s) with a new bonding lead having a length equal to 80 mm (3.15 inches), in accordance with the Accomplishment Instructions of Airbus Mandatory Service Bulletin A300-24-0106, dated July 9, 2010 (for Model A300 series airplanes); or Airbus Mandatory Service Bulletin A300-24-6108, dated July 9, 2010 (for Model A300-600 series airplanes).

(i) Repair of the Wires of the LH and RH Sides

If, during the inspection required by paragraph (g) of this AD, contact(s) or chafing(s) of the wires is found, repair the wires in accordance with the Accomplishment Instructions of Airbus Mandatory Service Bulletin A300-24-0106, dated July 9, 2010 (for Model A300 series airplanes); or Airbus Mandatory Service Bulletin A300-24-6108, dated July 9, 2010 (for Model A300-600 series airplanes).

(j) Parts Installation

As of the effective date of this AD, no person may install any bonding lead longer than 80 mm (3.15 inches), located between LH/RH engine hydraulic FSOV and wing rear spar in the zones 575/675 on any airplane.

(k) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, Washington 98057-3356; telephone (425) 227-2125; fax (425) 227-1149.

(2) Airworthy Product: For any requirement in this AD to obtain corrective actions from a manufacturer or other source, use these actions if they are FAA-approved. Corrective actions are considered FAA-approved if they are approved by the State of Design Authority (or their delegated agent). You are required to assure the product is airworthy before it is returned to service.

(l) Related Information

Refer to MCAI European Aviation Safety Agency (EASA) Airworthiness Directive 2011-0084, dated May 24, 2011; and the service information identified in paragraphs (l)(1), and (l)(2) of this AD; for related information.

(1) Airbus Mandatory Service Bulletin A300-24-0106, dated July 9, 2010.

(2) Airbus Mandatory Service Bulletin A300-24-6108, dated July 9, 2010.

Issued in Renton, Washington, on January 12, 2012.
Michael J. Kaszycki,
Acting Manager, Transport Airplane Directorate, Aircraft Certification Service.

[FR Doc. 2012-2625 Filed 2-3-12; 8:45 am]

BILLING CODE 4910-13-P